DEPARTMENT OF JUSTICE

Notice of Lodging of Proposed Consent Decree Under the Clean Air Act

On December 17, 2024, the Department of Justice lodged a proposed consent decree with the United States District Court for the Southern District of New York in the lawsuit entitled United States v. XTO Energy, Inc., Civil Action No. 24 Civ. 4269.

In this action, the United States seeks injunctive relief pursuant to the Clean Air Act against XTO Energy, Inc. for alleged violations of section 112(r)(1), 42 U.S.C. 7412(r)(1), related to a 2018 blowout at a fracked gas well in southeastern Ohio. The blowout necessitated evacuations of the surrounding area and resulted in the release of thousands of tons of methane, which is a listed hazardous substance. See 59 FR 4478 (Jan. 31, 1994). Under the proposed consent decree, XTO would pay $8 million in civil penalties, perform an audit of company drilling operations and undertake other compliance assurance efforts, and implement emissions mitigation projects that will secure more than 20,000 tons of methane emissions reductions.

The publication of this notice opens a period for public comment on the consent decree. Comments should be addressed to the Assistant Attorney General, Environment and Natural Resources Division, and should refer to United States v. XTO Energy, Inc., D.J. Ref. No. 90-5-1-1-12521. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the consent decree may be examined and downloaded at this Justice Department website: https://www.justice.gov/enrd/consent-decrees. If you require assistance accessing the consent decree, you may request assistance by email or by mail to the addresses provided above for submitting comments.

Laura Thoms,
Assistant Section Chief, Environmental Enforcement Section, Environment and Natural Resources Division.

[FR Doc. 2024-30458 Filed 12-19-24; 8:45 am]

BILLING CODE 4410-15-P